DEPARTMENT OF TRANSPORTATION

Federal Aviation Administration

14 CFR Part 39

[Docket No. FAA-2005-22959; Directorate Identifier 2005-NE-40-AD]

RIN 2120-AA64

Airworthiness Directives; Sicma Aero Seat; Third Occupant Seat Assemblies, 133 Series

AGENCY: Federal Aviation Administration (FAA), Department of Transportation (DOT).

ACTION: Notice of proposed rulemaking (NPRM).

SUMMARY: The FAA proposes to adopt a new airworthiness directive (AD) for Sicma Aero Seat third occupant seat assemblies, 133 Series. This proposed AD would require visually inspecting the installation of the two headrest bushings and installing Mecanindus pins to secure the bushings. This proposed AD results from Sicma's determination that missing or incorrectly secured bushings could loosen and cause disengagement of the headrest from the seat during a high-energy stop of the airplane, possibly injuring the seat occupant. We are proposing this AD to prevent disengagement of the headrest from the seat during a high-energy stop of the airplane that could injure the seat occupant.

DATES: We must receive any comments on this proposed AD by May 1, 2006.

ADDRESSES: Use one of the following addresses to comment on this proposed AD.

• DOT Docket web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Sicma Aero Seat 7, Rue Lucien Coupet, 36100 Issoudun, France; telephone 33 (0) 2 54 03 39 39, fax 33 (0) 2 54 03 15 16, for the service information identified in this proposed AD.

FOR FURTHER INFORMATION CONTACT: Jeffrey Lee, Aerospace Engineer, Boston Aircraft Certification Office, FAA, Engine and Propeller Directorate, FAA, 12 New England Executive Park, Burlington, MA 01803; telephone (781) 238-7161; fax (781) 238-7170.

SUPPLEMENTARY INFORMATION:

Comments Invited

We invite you to send us any written relevant data, views, or arguments regarding this proposal. Send your comments to an address listed under ADDRESSES. Include “Docket No. FAA-2005-22959; Directorate Identifier 2005-NE-40-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received, and any final disposition in person at the DMS Docket Offices between 9 a.m. and 5 p.m., Monday through Friday, except Federal holidays. The Docket Office (telephone (800) 647-5227) is on the plaza level of the Department of Transportation Nassif Building at the street address stated in ADDRESSES. Comments will be available in the AD docket shortly after the DMS receives them.

Discussion

The Direction Generale de L'Aviation Civile (DGAC), which is the airworthiness authority for France, notified us that an unsafe condition might exist on Sicma Aero Seat third occupant seat assemblies, 133 Series. The DGAC advises that Sicma determined that missing or incorrectly secured bushings could loosen, causing disengagement of the headrest from the seat during a high-energy stop of the airplane, possibly injuring the third seat occupant. This proposed AD would require visually inspecting the installation of the two headrest bushings and installing Mecanindus pins to secure the bushings. We are proposing this AD to prevent disengagement of the headrest from the seat during a high-energy stop of the airplane that could injure the seat occupant.

Relevant Service Information

We have reviewed and approved the technical contents of Sicma Aero Seat Service Bulletin (SB) 133-25-006, dated May 12, 1999. This SB describes procedures for inspecting the two headrest bushings for proper installation and installing Mecanindus pins to secure the bushings. The DGAC classified this SB as mandatory and issued airworthiness directive 2000-042(AB), dated January 26, 2000, in order to ensure the airworthiness of these third occupant seats in France.

FAA's Determination and Requirements of the Proposed AD

These cabin attendant seats, manufactured in France, are used in airplanes that are type-certificated for operation in the United States under the provisions of section 21.29 of the Federal Aviation Regulations (14 CFR 21.29) and the applicable bilateral airworthiness agreement. In keeping with this bilateral airworthiness agreement, the DGAC kept us informed of the situation described above. We have examined the DGAC's findings, reviewed all available information, and determined that AD action is necessary for products of this type design that are certificated for operation in the United States. For this reason, we are proposing this AD, which would require inspecting the two headrest bushings for proper installation and installing Mecanindus pins to secure the bushings. The proposed AD would require you to use the service information described previously to perform these actions.

Costs of Compliance

About 459 Sicma Aero Seat third occupant attendant seat assemblies, 133 Series, of the affected design are installed on 698 airplanes of U.S. registry. We estimate that it would take about 0.5 hour per seat assembly to perform the proposed actions, and that the average labor rate is $65 per work hour. The Mecanindus pins cost $99.88 each, however, Sicma has advised us that they will supply the parts at no cost. Based on the labor rate to install the parts, the total cost of the proposed AD to U.S. operators would be about $14,918.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Sicma Aero Seat: Docket No. FAA-2005-22959; Directorate Identifier 2005-NE-40-AD.

Comments Due Date

(a) The Federal Aviation Administration (FAA) must receive comments on this airworthiness directive (AD) action by May 1, 2006.

Affected ADs

(b) None.

Applicability

(c) This AD applies to Sicma Aero Seat third occupant seat assemblies, 133 Series, with the part numbers (P/Ns) and serial numbers (SNs) in the following Table 1:

Table 1.—Applicable Seat Assemblies
Seat P/N | Seat SN
130622-070 | 1 through 212.
130622-070-1 | 1 through 212.
1330622-070-2 | 1 through 6.
130622-100 | 1 through 13.
130622V100-1 | 1 through 16.

These third occupant seats are installed on, but not limited to, Airbus A319, A320, and A321 series airplanes.

Unsafe Condition

(d) This proposed AD results from Sicma's determination that missing or incorrectly secured bushings could loosen and cause disengagement of the headrest from the seat during a high-energy stop of the airplane, possibly injuring the seat occupant. We are proposing this AD to prevent disengagement of the headrest from the seat during a high-energy stop of the airplane that could injure the seat occupant.

Compliance

(e) You are responsible for having the actions required by this AD performed within the compliance times specified unless the actions have already been done.

Installing Protective Fairings

(f) Within 30 days after the effective date of this AD, visually check the installation of the two headrest bushings and install Mecanindus pins, part number GPMECAE2-5x5, to secure the bushings. Use the instructions in paragraph 2 of Sicma Aero Seat Service Bulletin 133-25-006, dated May 12, 1999, to perform the visual inspection and install the pins.

Alternative Methods of Compliance

(g) The Manager, Boston Aircraft Certification Office, has the authority to approve alternative methods of compliance for this AD if requested using the procedures found in 14 CFR 39.19.

Related Information

(h) DGAC airworthiness directive 2000-042 (AB), dated January 26, 2000, also addresses the subject of this AD.

Issued in Burlington, Massachusetts, on February 23, 2006.
Peter A. White,
Acting Manager, Engine and Propeller Directorate, Aircraft Certification Service.

[FR Doc. E6-2849 Filed 2-28-06; 8:45 am]

BILLING CODE 4910-13-P